NATIONAL SCIENCE FOUNDATION

Agency Information Collection Activities: Comment Request; NSF I-Corps Teams Executive Summary Form

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by October 21, 2024 to be assured consideration. Comments received after that date will be considered to the extent practicable. Send comments to address below.

FOR FURTHER INFORMATION CONTACT: Suzanne H. Plimpton, Reports Clearance Officer, National Science Foundation, 2415 Eisenhower Avenue, Suite E6300, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: NSF I-Corps Teams Executive Summary Form.

OMB Control No.: 3145-New.

Expiration Date of Approval: Not applicable.

Abstract: The NSF Innovation Corps (I-Corps) Teams Program Executive Summary is an important component of the NSF I-Corps Teams pre-submission process and conveys information needed to direct the proposed team project to the appropriate NSF Program Director (PD) for review and possible proposal submission invitation. This Executive Summary (ES) is to be submitted by the applying team to the cognizant I-Corps Team's PD outlining solicitation-specific aspects of the project (such as proposed team members, technology, commercial application and NSF lineage). In the past, this ES was submitted via email as an attached two-page (maximum) document and was often in varying formats or missing some parts of the required ES elements. The NSF I-Corps Teams Executive Summary Form captures the same requested information, as outlined in NSF I-Corps Teams Program solicitation, but all within one secure, web-based form. In specific, the form collects submitting team member information (composition, roles and a brief description of each member's qualifications), Principal Investigator (PI) information (and a brief description of their connection to the team), NSF lineage (relevant current or previous NSF awards), brief descriptions of the core technology, the potential commercial application, and the current commercialization plan for the proposed technology. If the proposed I-Corps Team is applying based on participation in a local or regional NSF I-Corps Hub, Node or Site training session, the form will provide fields for the applying team to complete regarding the associated I-Corps Hub, Node or Site senior member's contact information (as a reference), the date of participation, and location of the associated Hub, Node or Site program.

Respondents: Investigators who submit proposals to NSF's I-Corps Teams Program.

Estimated Number of Annual Respondents: 400.

Burden on the Public: 2 hour (per response) for an annual total of 800 hours.

Dated: August 15, 2024.
Suzanne H. Plimpton,
Reports Clearance Officer, National Science Foundation.

[FR Doc. 2024-18616 Filed 8-19-24; 8:45 am]

BILLING CODE 7555-01-P